DEPARTMENT OF COMMERCE

International Trade Administration

Antidumping or Countervailing Duty Order, Finding, or Suspended Investigation; Advance Notification of Sunset Review

AGENCY: Enforcement and Compliance, International Trade Administration, Department of Commerce.

SUMMARY: In accordance with the Tariff Act of 1930, as amended (the Act), the U.S. Department of Commerce (Commerce) is automatically initiating the five-year reviews (Sunset Reviews) of the antidumping and countervailing duty (AD/CVD) order(s) and suspended investigation(s) listed below. The International Trade Commission (the ITC) is publishing concurrently with this notice its notice of Institution of Five-Year Reviews which covers the same order(s) and suspended investigation(s).

DATES: Applicable March 1, 2023.

FOR FURTHER INFORMATION CONTACT: Commerce official identified in the Initiation of Review section below at AD/CVD Operations, Enforcement and Compliance, International Trade Administration, U.S. Department of Commerce, 1401 Constitution Avenue NW, Washington, DC 20230. For information from the ITC, contact Mary Messer, Office of Investigations, U.S. International Trade Commission at (202) 205-3193.

SUPPLEMENTARY INFORMATION:

Background

Every five years, pursuant to the Act, Commerce) and the ITC automatically initiate and conduct reviews to determine whether revocation of an AD/CVD order or termination of an investigation suspended under section 704 or 734 of the Act would be likely to lead to continuation or recurrence of dumping or a countervailable subsidy (as the case may be) and of material injury.

Upcoming Sunset Reviews for April 2023

Pursuant to section 751(c) of the Act, the following Sunset Reviews are scheduled for initiation in April 2023 and will appear in that month's Notice of Initiation of Five-Year Sunset Reviews (Sunset Review).

| Department contact
Antidumping Duty Proceedings
Carton Closing Staples from China, A-570-055 (1st Review) | Mary Kolberg, (202) 482-1785.
Foundry Coke from China, A-570-862 (4th Review) | Thomas Martin, (202) 482-3936.
Steel Wire Garment Hangers from Taiwan, A-583-849 (2nd Review) | Thomas Martin, (202) 482-3936.
Steel Wire Garment Hangers from Vietnam, A-552-812 (2nd Review) | Thomas Martin, (202) 482-3936.
Countervailing Duty Proceedings
Steel Wire Garment Hangers from Vietnam, C-552-813 (2nd Review) | Mary Kolberg, (202) 482-1785.
Suspended Investigations
No Sunset Review of suspended investigations is scheduled for initiation in April 2023

Commerce's procedures for the conduct of Sunset Review are set forth in 19 CFR 351.218. The Notice of Initiation of Five-Year (Sunset) Review provides further information regarding what is required of all parties to participate in Sunset Review.

Pursuant to 19 CFR 351.103(c), Commerce will maintain and make available a service list for these proceedings. To facilitate the timely preparation of the service list(s), it is requested that those seeking recognition as interested parties to a proceeding contact Commerce in writing within 10 days of the publication of the Notice of Initiation.

Please note that if Commerce receives a Notice of Intent to Participate from a member of the domestic industry within 15 days of the date of initiation, the review will continue.

Thereafter, any interested party wishing to participate in the Sunset Review must provide substantive comments in response to the notice of initiation no later than 30 days after the date of initiation. Note that Commerce has modified certain of its requirements for serving documents containing business proprietary information, until further notice.¹

¹ See Temporary Rule Modifying AD/CVD Service Requirements Due to COVID-19; Extension of Effective Period, 85 FR 41363 (July 10, 2020).

Notification to Interested Parties

This notice is not required by statute but is published as a service to the international trading community.

Dated: February 10, 2023.
James Maeder,
Deputy Assistant Secretary for Antidumping and Countervailing Duty Operations.

[FR Doc. 2023-04197 Filed 2-28-23; 8:45 am]

BILLING CODE 3510-DS-P